DEPARTMENT OF THE TREASURY

Internal Revenue Service

26 CFR Part 301

[TD 9519]

RIN 1545-BF33

Taxpayer Assistance Orders; Correction

AGENCY: Internal Revenue Service (IRS), Treasury.

ACTION: Correction to final regulations.

SUMMARY: This document contains a correction to final regulations (TD 9519) that were published in the Federal Register on Friday, April 1, 2011 (76 FR 18059) relating to taxpayer assistance orders.

DATES: This correction is effective May 25, 2011 and applicable April 1, 2011.

FOR FURTHER INFORMATION CONTACT: Janice R. Feldman, (202) 622-8488 (not a toll free number).

SUPPLEMENTARY INFORMATION:

Background

The final regulations (TD 9519) that are the subject of this correction are under section 7811 of the Internal Revenue Code.

Need for Correction

As published, the final regulations (TD 9519) contain an error that may prove to be misleading and is in need of clarification.

Correction of Publication

Accordingly, the final regulations (TD 9519), that are the subject of FR Doc. 2011-7770, is corrected as follows:

On page 18060, column 1, under the paragraph heading “Background”, line 3 from the top of the paragraph, the language “under sections 7811 of the Internal” is corrected to read “under section 7811 of the Internal”.

LaNita VanDyke,
Chief, Publications and Regulations Branch, Legal Processing Division, Associate Chief Counsel (Procedure and Administration).

[FR Doc. 2011-12791 Filed 5-24-11; 8:45 am]

BILLING CODE 4830-01-P